ENVIRONMENTAL PROTECTION AGENCY

[FRL OP-OFA-002]

Environmental Impact Statements; Notice of Availability

Responsible Agency: Office of Federal Activities, General Information 202-564-5632 or https://www.epa.gov/nepa.

Weekly receipt of Environmental Impact Statements (EIS)

Filed January 24, 2022 10 a.m. EST Through January 31, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220011, Draft, USN, HI, Pearl Harbor Naval Shipyard and Intermediate Maintenance Facility Dry Dock and Waterfront Production Facility at Joint Base Pearl Harbor-Hickam, Oahu, Hawaii, Comment Period Ends: 03/21/2022, Contact: Andrea Von Burg Hall 808-472-1425.

EIS No. 20220012, Second Draft Supplemental, USACE, FL, Port Everglades Harbor, Broward County, Florida, Comment Period Ends: 03/21/2022, Contact: Paul Demarco 904-232-1897.

Dated: January 31, 2022.
Candi Schaedle,
Acting Director, NEPA Compliance Division, Office of Federal Activities.

[FR Doc. 2022-02375 Filed 2-3-22; 8:45 am]

BILLING CODE 6560-50-P